Title 3—

The President

Proclamation 9088 of March 1, 2014

Women's History Month, 2014

By the President of the United States of America

A Proclamation

Throughout our Nation's history, American women have led movements for social and economic justice, made groundbreaking scientific discoveries, enriched our culture with stunning works of art and literature, and charted bold directions in our foreign policy. They have served our country with valor, from the battlefields of the Revolutionary War to the deserts of Iraq and mountains of Afghanistan. During Women's History Month, we recognize the victories, struggles, and stories of the women who have made our country what it is today.

This month, we are reminded that even in America, freedom and justice have never come easily. As part of a centuries-old and ever-evolving movement, countless women have put their shoulder to the wheel of progress—activists who gathered at Seneca Falls and gave expression to a righteous cause; trailblazers who defied convention and shattered glass ceilings; millions who claimed control of their own bodies, voices, and lives. Together, they have pushed our Nation toward equality, liberation, and acceptance of women's right—not only to choose their own destinies—but also to shape the futures of peoples and nations.

Through the grit and sacrifice of generations, American women and girls have gained greater opportunities and more representation than ever before. Yet they continue to face workplace discrimination, a higher risk of sexual assault, and an earnings gap that will cost the average woman hundreds of thousands of dollars over the course of her working lifetime.

As women fight for their seats at the head of the table, my Administration offers our unwavering support. The first bill I signed as President was the Lilly Ledbetter Fair Pay Act, which made it easier for women to challenge pay discrimination. Under the Affordable Care Act, we banned insurance companies from charging women more because of their gender, and we continue to defend this law against those who would let women's bosses influence their health care decisions. Last year, recognizing a storied history of patriotic and courageous service in our Armed Forces, the United States military opened ground combat units to women in uniform. We are also encouraging more girls to explore their passions for science, technology, engineering, and mathematics and taking action to create economic opportunities for women across the globe. Last fall, we finalized a rule to extend overtime and minimum wage protections to homecare workers, 90 percent of whom are women. And this January, I launched a White House task force to protect students from sexual assault.

As we honor the many women who have shaped our history, let us also celebrate those who make progress in our time. Let us remember that when women succeed, America succeeds. And from Wall Street to Main Street, in the White House and on Capitol Hill—let us put our Nation on the path to success.

NOW, THEREFORE, I, BARACK OBAMA, President of the United States of America, by virtue of the authority vested in me by the Constitution and the laws of the United States, do hereby proclaim March 2014 as Women's History Month. I call upon all Americans to observe this month and to celebrate International Women's Day on March 8, 2014, with appropriate programs, ceremonies, and activities. I also invite all Americans to visit www.WomensHistoryMonth.gov to learn more about the generations of women who have left enduring imprints on our history.

IN WITNESS WHEREOF, I have hereunto set my hand this first day of March, in the year of our Lord two thousand fourteen, and of the Independence of the United States of America the two hundred and thirty-eighth.

[FR Doc. 2014-05180

Filed 3-6-14; 11:15 am]

Billing code 3295-F4